DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Port Authority Trans-Hudson Corporation

[Docket Number FRA-2008-0085]

The Port Authority Trans-Hudson Corporation (PATH), seeks a waiver of compliance from certain provisions of Safety Appliance Standards, 49 CFR Part 231, that requires a sill step, side, and end handhold on each side and each end of a passenger car. Specifically, the PATH request is to use an alternate location of the sill step and side handhold and not install end handholds for the production of PATH's new fleet of passenger cars in passenger train service.

PATH operates on 13.8 miles of an interstate rail transit system between five major terminals and eight intermediate stations linking New Jersey and New York. The PATH system is a closed system, does not interchange and has other railroads with no highway rail crossings. Currently, PATH operates 326 vehicles of similar comparable design with relatively short headways and high platforms over a system that one-half of which is located in tunnels below ground level carrying 250,000 passengers in a 24-hour period. There is no interchange of car equipment between PATH and any rapid transit system or railroad. Because of the unique characteristics of PATH that is more representative of an inter-urban rapid transit system, PATH requests a waiver of certain provisions of FRA requirements, which they believe are not totally applicable. PATH also believes that in the past, FRA, while asserting jurisdiction over PATH, has acknowledged that PATH's operations are analogous to that of an inter-urban rapid transit system.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2008-0085) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on August 20, 2008.
Grady C. Cothen, Jr.,
Deputy Associate Administrator for Safety Standards and Program Development.

[FR Doc. E8-19673 Filed 8-25-08; 8:45 am]

BILLING CODE 4910-06-P